AGENCY FOR INTERNATIONAL DEVELOPMENT

22 CFR Part 205

RIN 0412-AA75

Amendment to “Participation by Religious Organizations in USAID Programs” To Implement Executive Order 13559

AGENCY: U.S Agency for International Development.

ACTION: Notice of proposed rulemaking; extension of comment period.

SUMMARY: The U.S. Agency for International Development (USAID) is extending the public comment period on the Notice of proposed rulemaking entitled “Amendment to `Participation by Religious Organizations in USAID Programs' to Implement Executive Order 13559,” which was published in the Federal Register on August 6, 2015. The original public comment period would have ended on September 8, 2015. USAID intended to give a 60-day public comment period. Therefore, a comment period extension, to October 5, 2015, is appropriate.

DATES: The comment period for the notice of proposed rulemaking published in the Federal Register on August 6, 2015 (80 FR 47237), is extended. Written comments must be received by the extended due date of October 5, 2015. USAID may not fully consider comments received after this date.

ADDRESSES: Address all comments concerning this notice to C. Eduardo Vargas, Center for Faith-Based & Community Initiatives (A/AID/CFBCI), U.S Agency for International Development, Room 6.07-100 RRB, 1300 Pennsylvania Avenue NW., Washington, DC 20523. Submit comments, identified by title of the action and Regulatory Information Number (RIN) by any of the following methods:

Federal eRulemaking Portal: http://www.regulations.gov. Follow the instructions for submitting comments.

Email: Submit electronic comments to FBCI@usaid.gov. See SUPPLEMENTARY INFORMATION for file formats and other information about electronic filing.

Mail: USAID, Center for Faith-Based & Community Initiatives (A/AID/CFBCI), Room 6.07-100, 1300 Pennsylvania Avenue NW., Washington, DC 20523.

A copy of each communication submitted will be available for inspection and copying between 8:30 a.m. and 5:30 p.m. at the above address.

FOR FURTHER INFORMATION CONTACT: Mark Brinkmoeller, Director, Center for Faith-Based and Community Initiatives, USAID, Room 6.07-023, 1300 Pennsylvania Avenue NW., Washington, DC 20523; telephone: (202) 712-4080 (this is not a toll-free number).

SUPPLEMENTARY INFORMATION: USAID published a notice of proposed rulemaking entitled “Amendment to `Participation by Religious Organizations in USAID Programs' to Implement Executive Order 13559,” which was published in the Federal Register on August 6, 2015 (80 FR 47237). This proposed rule is intended to amend 22 CFR part 205, Participation by Religious Organizations in USAID Programs, to make it consistent with Executive Order 13559. This proposed rule would amend USAID's regulations to replace the term “inherently religious activities” with the term “explicitly religious activities” and define the latter term as “including activities that involve overt religious content such as worship, religious instruction, or proselytization.” This proposed rule would also clarify that organizations who receive USAID financial assistance through subawards must comply with the requirements relating to protections for beneficiaries and the restrictions on prohibited uses of federal financial assistance. This proposed rule would also add language to the sections of the rule covering protections for beneficiaries to conform more directly to the Executive Order language. This proposed would also provide that decisions about awards of Federal financial assistance must be free from political interference or even the appearance of such interference.

USAID intended to give a 60-day public comment period, which would mirror the comment period given in the related proposed rules of eight other federal agencies. Therefore, a comment period extension, to October 5, 2015, is appropriate without unduly delaying a final rulemaking decision. Accordingly, written comments must be submitted by the extended due date of October 5, 2015. USAID may not fully consider comments received after this date.

Dated: August 25, 2015.
C. Eduardo Vargas,
Deputy Director, Center for Faith-Based and Community Initiatives (Acting Director).

[FR Doc. 2015-22039 Filed 9-3-15; 8:45 am]

BILLING CODE 6116-01-P